DEPARTMENT OF VETERANS AFFAIRS

[OMB Control No. 2900-0031]

Agency Information Collection Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before October 21, 2005.

FOR FURTHER INFORMATION OR A COPY OF THE SUBMISSION CONTACT: Denise McLamb, Records Management Service (005E3), Department of Veterans Affairs, 810 Vermont Avenue, NW., Washington, DC 20420, (202) 565-8374 or FAX (202) 565-5950 or e-mail: denise.mclamb@mail.va.gov. Please refer to “OMB Control No. 2900-0031.”

Send comments and recommendations concerning any aspect of the information collection to VA's Desk Officer, OMB Human Resources and Housing Branch, New Executive Office Building, Room 10235, Washington, DC 20503 (202) 395-7316. Please refer to “OMB Control No. 2900-0031” in any correspondence.

SUPPLEMENTARY INFORMATION:

Title: Veteran's Supplemental Application for Assistance in Acquiring Specially Adapted Housing, VA Form 26-4555c.

OMB Control Number: 2900-0031.

Type of Review: Extension of a currently approved collection.

Abstract: Veterans complete VA Form 26-4555c to apply for specially adapted housing grant. VA uses the data collected to determine if it is economically feasible for a veteran to reside in specially adapted housing and to compute the proper grant amount.

An agency may not conduct or sponsor, and a person is not required to respond to a collection of information unless it displays a currently valid OMB control number. The Federal Register Notice with a 60-day comment period soliciting comments on this collection of information was published on May 3, 2005 at page 22997.

Affected Public: Individuals or households.

Estimated Annual Burden: 150 hours.

Estimated Average Burden Per Respondent: 15 minutes.

Frequency of Response: On occasion.

Estimated Number of Respondents: 600.

Dated: September 12, 2005.
By direction of the Secretary.
Denise McLamb,
Program Analyst, Records Management Service.

[FR Doc. 05-18875 Filed 9-20-05; 8:45 am]

BILLING CODE 8320-01-P